DEPARTMENT OF THE TREASURY

Office of Foreign Assets Control

Unblocking of a Specially Designated Global Terrorist Pursuant to Executive Order 13224

AGENCY: Office of Foreign Assets Control, Treasury.

ACTION: Notice.

SUMMARY: The Treasury Department's Office of Foreign Assets Control (OFAC) is removing from the List of Specially Designated Nationals and Blocked Persons (SDN List) the name of one individual whose property and interests in property have been unblocked pursuant to Executive Order 13224 of September 23, 2001, “Blocking Property and Prohibiting Transactions With Persons Who Commit, Threaten To Commit, or Support Terrorism.”

DATES: OFAC's actions described in this notice are effective November 26, 2014.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Action

On September 11, 2014, OFAC unblocked the property and interests in property of the following individual pursuant to E.O. 13224, “Blocking Property and Prohibiting Transactions With Persons Who Commit, Threaten To Commit, or Support Terrorism.” All property and interests in property of the individual that are in or hereafter come within the United States or the possession or control of United States persons are now unblocked.

Individual

1. AL-QADI, Yasin Abdullah Ezzedine (a.k.a. KADI, Shaykh Yassin Abdullah; a.k.a. KAHDI, Yasin), Jeddah, Saudi Arabia; DOB 23 Feb 1955; POB Cairo, Egypt; nationality Saudi Arabia; Passport B 751550; alt. Passport E 976177 issued 06 Mar 2004 expires 11 Jan 2009; alt. Passport A 848526 (Saudi Arabia) expires 29 Mar 2001 (individual) [SDGT].

Dated: November 26, 2014.
John E. Smith,
Acting Director, Office of Foreign Assets Control.

[FR Doc. 2014-28598 Filed 12-4-14; 8:45 am]

BILLING CODE 4810-AL-P